ENVIRONMENTAL PROTECTION AGENCY

[ER-FRL-9045-5]

Environmental Impact Statements; Notice of Availability

Responsible Agency: Office of Federal Activities, General Information 202-564-5632 or https://www.epa.gov/nepa/.

Weekly receipt of Environmental Impact Statements

Filed 06/17/2019 Through 06/21/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190139, Draft, FERC, NY, Mineville Energy Storage Project, Comment Period Ends: 08/12/2019, Contact: Office of External Affairs 866-208-3372

EIS No. 20190140, Draft, NRCS, RI, Pocasset River Watershed Plan and EIS, Comment Period Ends: 08/12/2019, Contact: Alan Gillespie 401-822-8812

EIS No. 20190141, Draft, BLM, CO, Domestic Sheep Grazing Permit Renewals, Comment Period Ends: 08/12/2019, Contact: Kristi Murphy 970-642-4955

EIS No. 20190142, Revised Draft, USFS, CA, Sequoia and Sierra National Forests Land Management Plans Revision, Comment Period Ends: 09/26/2019, Contact: Laura Hierholzer 707-562-8949

EIS No. 20190143, Final, NPS, CO, Great Sand Dunes National Park and Preserve Ungulate Management Plan Abbreviated Final EIS, Review Period Ends: 07/29/2019, Contact: Pam Rice 719.378.6311

EIS No. 20190144, Final, FHWA, ND, Little Missouri River Crossing, Review Period Ends: 07/29/2019, Contact: Gary Goff 701-221-9466

EIS No. 20190145, Final, BLM, CO, Uncompahgre Field Office Proposed Resource Management Plan and Final Environmental Impact Statement, Review Period Ends: 07/29/2019, Contact: Matthew Loscalzo 970-240-5305

EIS No. 20190146, Final, VA, CA, Final Programmatic Environmental Impact Statement and National Historic Preservation Act Section 106 Consultation: West Los Angeles Medical Center Campus Proposed Master Plan for Improvements and Reconfiguration, Review Period Ends: 07/29/2019, Contact: Glenn Elliott 2023601243

Amended Notice

EIS No. 20190081, Draft, USACE, IL, Draft Chicago Area Waterway System Dredged Material Management Plan, Comment Period Ends: 08/01/2019, Contact: Mike Padilla 312-846-5427 Revision to FR Notice Published 06/07/2019; Extending the Comment Period from 07/02/2019 to 08/01/2019.

EIS No. 20190138, Draft, FERC, CA, Bucks Creek Hydropower Project, Comment Period Ends: 08/13/2019, Contact: Office of External Affairs 866-208-3372 Revision to FR Notice Published 06/21/2019; Extending the Comment Period from 08/05/2019 to 08/13/2019.

Dated: June 24, 2019.
Robert Tomiak,
Director, Office of Federal Activities.

[FR Doc. 2019-13727 Filed 6-27-19; 8:45 am]

BILLING CODE 6560-50-P